ENVIRONMENTAL PROTECTION AGENCY

[EPA-HQ-OPPT-2004-0109; FRL-8146-3]

Draft List of Initial Pesticide Active Ingredients and Pesticide Inerts to be Considered for Screening under the Federal Food, Drug, and Cosmetic Act; Extension of Comment Period

AGENCY: Environmental Protection Agency (EPA).

ACTION: Notice; extension of comment period.

SUMMARY: EPA issued a notice in the Federal Register of June 18, 2007, concerning the draft list of the first group of chemicals that will be screened in the Agency's Endocrine Disruptor Screening Program (EDSP). The draft list was produced using the approach described in the September 2005 notice, and includes chemicals that the Agency, in its discretion, has decided should be tested first, based upon exposure potential. This document is extending the comment period for 60 days, from September 17, 2007, to November 16, 2007.

DATES: Comments, identified by docket identification (ID) number EPA-HQ-OPPT-2004-0109 must be received on or before November 16, 2007.

ADDRESSES: Follow the detailed instructions as provided under ADDRESSES in the Federal Register document of June 18, 2007.

FOR FURTHER INFORMATION CONTACT: Linda Phillips, Office of Science Coordination and Policy (7203M), Office of Prevention, Pesticides, and Toxic Substances, Environmental Protection Agency, 1200 Pennsylvania Ave., NW., Washington, DC 20460-0001; telephone number: (202) 564-1264; e-mail address: Phillips.linda@epa.gov.

SUPPLEMENTARY INFORMATION:

I. General Information

A. Does this Action Apply to Me?

The Agency included in the June 18, 2007 notice a list of those who may be potentially affected by this action. If you have questions regarding the applicability of this action to a particular entity, consult the person listed under FOR FURTHER INFORMATION CONTACT.

B. What Should I Consider as I Prepare My Comments for EPA?

When preparing comments follow the procedures and suggestions given in Unit I.B. of the SUPPLEMENTARY INFORMATION of the June 18, 2007 Federal Register notice.

C. How and to Whom Do I Submit Comments?

To submit comments, or access the public docket, please follow the detailed instructions as provided in Unit I.B.3. of the SUPPLEMENTARY INFORMATION of the June 18, 2007 Federal Register notice. If you have questions, consult the person listed under FOR FURTHER INFORMATION CONTACT.

II. What Action Is EPA Taking?

This document extends the public comment period established in the Federal Register of June 18, 2007 (72 FR 33486) (FRL-8129-3). In that document, EPA announced the draft list of the first group of chemicals that will be screened in the Agency's EDSP. The draft list was developed using the approach described in the Federal Register notice of September 27, 2005 (70 FR 56449) (FRL-7716-9). As required by the Federal Food, Drug, and Cosmetic Act (FFDCA), all pesticides must eventually be screened under the EDSP, and this first group is simply a starting point. Because EPA developed this draft list of chemicals based upon exposure potential, it should not be construed as a list of known or likely endocrine disruptors, and it would be inappropriate to do so. Following consideration of comments on this draft list of chemicals, EPA will issue a second Federal Register notice containing the final list of chemicals. EPA is hereby extending the comment period, which was set to end on September 17, 2007, to November 16, 2007.

III. What Is the Agency's Authority for Taking this Action?

Section 408(p) of FFDCA requires EPA to “develop a screening program, using appropriate validated test systems and other scientifically relevant information, to determine whether certain substances may have an effect in humans that is similar to an effect produced by a naturally occurring estrogen, or such other endocrine effect as [EPA] may designate.” (21 U.S.C. 346a(p)). The statute generally requires EPA to “provide for the testing of all pesticide chemicals.” (21 U.S.C. 346a(p)(3)). However, EPA is authorized to exempt a chemical, by order upon a determination that “the substance is anticipated not to produce any effect in humans similar to an effect produced by a naturally occurring estrogen.” (21 U.S.C. 346a(p)(4)). “Pesticide chemical” is defined as “any substance that is a pesticide within the meaning of the Federal Insecticide, Fungicide, and Rodenticide Act, including all active and inert ingredients of such pesticide.” (21 U.S.C. 321(q)(1)).

List of Subjects

Environmental protection, Chemicals, Endocrine Disruptors, Pesticides

Dated: September 4, 2007.
James B. Gulliford,
Assistant Administrator, Office of Prevention, Pesticides and Toxic Substances.

[FR Doc. E7-17984 Filed 9-11-07; 8:45 am]

BILLING CODE 6560-50-S